DEPARTMENT OF THE TREASURY

United States Mint

Price Increase for First Spouse Gold Coin

ACTION: Notification of First Spouse Gold Coin Price Increases.

SUMMARY: Recent increases in the price of gold require that the United States Mint raise the sale prices on its upcoming offering of the Dolley Madison First Spouse Gold Coins.

Pursuant to the authority that 31 U.S.C. 5112(o)(1) & (4) grants to the Secretary of the Treasury to mint and issue one-half ounce gold bullion First Spouse coins, and to set their sale prices, the United States Mint is changing the price of these coins to reflect the increase in value of the precious metal content of the coins. This change is attributable to recent increases in the market price of gold, which has increased substantially since the initial prices were set for the First Spouse Gold Coins.

Accordingly, effective November 19, 2007, the United States Mint will commence selling the following Dolley Madison First Spouse Gold Coins at the prices indicated below:

Description | Price
Dolley Madison First Spouse Gold Proof Coins | $529.95
Dolley Madison First Spouse Gold Uncirculated Coins | 509.95

FOR FURTHER INFORMATION CONTACT: Gloria C. Eskridge, Associate Director for Sales and Marketing, United States Mint, 801 Ninth Street, NW., Washington, DC 20220; or call (202) 354-7500.

Authority: 31 U.S.C. 5112 & 9701.

Dated: November 9, 2007.
Edmund C. Moy,
Director, United States Mint.

[FR Doc. E7-22417 Filed 11-15-07; 8:45 am]

BILLING CODE 4810-02-P